DEPARTMENT OF THE TREASURY

Internal Revenue Service

Proposed Reinstatement of Information Collection Request Submitted for Public Comment; Comment Request Relating to the Research Applied Analytics & Statistics (RAAS) Comprehensive Taxpayer Attitude Survey

AGENCY: Internal Revenue Service (IRS), Treasury.

ACTION: Notice and request for comments.

SUMMARY: The Internal Revenue Service, as part of its continuing effort to reduce paperwork and respondent burden, invites the public and other Federal agencies to take this opportunity to comment on proposed and/or continuing information collections, as required by the Paperwork Reduction Act of 1995. Currently, the IRS is soliciting comments concerning the requirements relating to the information collection, 2020 Research Applied Analytics & Statistics (RAAS) Comprehensive Taxpayer Attitude Survey.

DATES: Written comments should be received on or before May 18, 2020 to be assured of consideration.

ADDRESSES: Direct all written comments to R. Joseph Durbala, Internal Revenue Service, Room 6529, 1111 Constitution Avenue NW, Washington, DC 20224. Requests for additional information or copies of the regulations should be directed to Rachel Martinen, at Internal Revenue Service, Room 6129, 1111 Constitution Avenue NW, Washington DC 20224, or through the internet, at Rachel.Martinen@irs.gov.

SUPPLEMENTARY INFORMATION: Title: Research Applied Analytics & Statistics (RAAS) Comprehensive Taxpayer Attitude Survey

OMB Number: 1545-2288.

Document Number(s): None.

Abstract: The Internal Revenue Service (IRS) conducts the Comprehensive Taxpayer Attitude Survey as part of the Service-wide effort to maintain a system of balanced organizational performance measures mandated by the IRS Restructuring and Reform Act (RRA) of 1998. This is also a result of Executive Order 12862 that requires all government agencies to survey their customers.

The IRS' office of Research Applied Analytics & Statistics (RAAS) is sponsoring this annual survey (formerly conducted by the IRS Oversight Board) with the objective of better understanding what influences taxpayers' tax compliance, their opinions of the IRS, and their customer service preferences, as well as how these taxpayer views change over time.

Current Actions: To request a reinstatement of OMB approval.

Type of Review: Reinstatement of a previously approved information collection.

Affected Public: Individuals or households.

Estimated Number of Respondents: 39,273.

Estimated Time per Respondent: .05 min. (screened), 23 min. (participants)

Estimated Total Annual Burden Hours: 1,111.

The following paragraph applies to all the collections of information covered by this notice:

An agency may not conduct or sponsor, and a person is not required to respond to, a collection of information unless the collection of information displays a valid OMB control number.

Books or records relating to a collection of information must be retained if their contents may become material in the administration of any internal revenue law. Generally, tax returns and tax return information are confidential, as required by 26 U.S.C. 6103.

Desired Focus of Comments: The Internal Revenue Service (IRS) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., by permitting electronic submissions of responses.

Comments submitted in response to this notice will be summarized and/or included in the ICR for OMB approval of the extension of the information collection; they will also become a matter of public record.

Approved: March 11, 2020.
R. Joseph Durbala,
IRS Tax Analyst.

[FR Doc. 2020-05474 Filed 3-16-20; 8:45 am]

BILLING CODE 4830-01-P